FEDERAL COMMUNICATIONS COMMISSION

Notice of Public Information Collection(s) Being Submitted to OMB for Review and Approval

August 18, 2003.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before September 29, 2003. If you anticipate that you will be submitting comments, but find it difficult to do so within the period of time allowed by this notice, you should advise the contact listed below as soon as possible.

ADDRESSES: Direct all comments to Les Smith, Federal Communications Commission, Room 1-A804, 445 12th Street, SW., Washington, DC 20554, or via the Internet to Leslie.Smith@fcc.gov; or Kim A. Johnson, Office of Management and Budget (OMB), Room 10236 NEOB, Washington, DC 20503, (202) 395-3562, or via the Internet at Kim_A._Johnson@omb.eop.gov.

FOR FURTHER INFORMATION CONTACT: For additional information or copy of the information collection(s) contact Les Smith at (202) 418-0217 or via the Internet at Leslie.Smith@fcc.gov.

SUPPLEMENTARY INFORMATION: OMB Control Number: 3060-0249.

Title: Section 74.781, Station Records.

Form Number: N/A.

Type of Review: Extension of a currently approved collection.

Respondents: Business and other for-profit entities; Not-for-profit institutions; State, Federal or Tribal governments.

Number of Respondents: 7,400.

Estimated Time per Response: 15 to 45 minutes.

Frequency of Response: Recordkeeping

Total Annual Burden: 5,735 hours.

Total Annual Costs: $666,000.

Needs and Uses: 47 CFR 74.781 requires licensees of low power television, TV translator, and TV booster stations to maintain adequate records. FCC staff in field inspections use the records to ensure that reasonable measures are taken to maintain proper station operations and to ensure compliance with the Commission's rules.

OMB Control Number: 3060-0568.

Title: Commercial Leased Access Rates, Terms, and Conditions.

Form Number: N/A.

Type of Review: Extension of a currently approved collection.

Respondents: Business or other for-profit entities; State, local, or Tribal government.

Number of Respondents: 6,330.

Estimated Time per Response: 2 mins to 10 hrs.

Frequency of Response: Recordkeeping; Third party disclosure.

Total Annual Burden: 94,171 hours.

Total Annual Costs: $74,000.

Needs and Uses: The FCC and prospective leased access programmers use this information to verify rate calculations for leased access channels and to eliminate uncertainty negotiations for leased commercial access. The Commission's leased access requirements are designed to promote programming diversity and competition in programming delivery as required by section 612 of the Cable Television Consumer Protection and Competition Act of 1992.

OMB Control Number: 3060-0569.

Title: Section 76.975, Commercial Leased Access Dispute Resolution.

Form Number: N/A.

Type of Review: Extension of a currently approved collection.

Respondents: Business or other for-profit entities; State, local, or tribal government.

Number of Respondents: 60.

Estimated Time per Response: 4 to 40 hours.

Frequency of Response: On occasion filing requirement; Third party disclosure.

Total Annual Burden: 1,320 hours.

Total Annual Costs: $69,000.

Needs and Uses: 47 CFR 76.975 permits any person aggrieved by the failure or refusal of a cable operator to make commercial channel capacity available or to charge rates for such capacity in accordance with the provisions of Title VI of the Communications Act of 1934 may file a petition for relief with the Commission. The Commission reviews the information to resolve leased access disputes.

OMB Control Number: 3060-0912.

Title: Cable Attribution Rules.

Form Number: N/A.

Type of Review: Extension of a currently approved collection.

Respondents: Business and other for-profit entities; Individuals or households.

Number of Respondents: 20.

Estimated Time per Response: 4 hours.

Frequency of Response: On occasion reporting requirements.

Total Annual Burden: 80 hours.

Total Annual Costs: None.

Needs and Uses: The FCC uses filings required under 47 CFR 76.501, 76.503, and 76.504 of Commission rules to determine the nature of the corporate, financial, partnership, ownership and other business relationships that confer on their holders a degree of ownership or other economic interest, or influence or control over an entity engaged in the provision of communications services such that the holders are subject to the Commission's regulations.

OMB Control Number: 3060-0938.

Title: Application for a Low Power FM Broadcast Station License, FCC Form 319.

Form Number: FCC Form 319.

Type of Review: Extension of a currently approved collection.

Respondents: Not-for-profit institutions; State, local, or Tribal government.

Number of Respondents: 1,200.

Estimated Time per Response: 1.0 hours.

Frequency of Response: On occasion filing requirements.

Total Annual Burden: 1,800 hours.

Total Annual Costs: $105,000.

Needs and Uses: The FCC Form 319 is required to apply for a new or modified low power FM broadcast station. The data are used by FCC staff to determine whether an applicant has constructed its station in accordance with the outstanding construction permit and to update FCC station files. Data are extracted from the FCC Form 319 for inclusion in the subsequent license to operate the station.

Federal Communications Commission.
William F. Caton,
Deputy Secretary.

[FR Doc. 03-22172 Filed 8-28-03; 8:45 am]

BILLING CODE 6712-01-P